DEPARTMENT OF TRANSPORTATION

Office of the Secretary

49 CFR Part 40

[Docket DOT-OST-2021-0093]

RIN 2105-AE94

Procedures for Transportation Workplace Drug and Alcohol Testing Programs: Addition of Oral Fluid Specimen Testing for Drugs; Extension of Comment Period

AGENCY: Office of the Secretary, U.S. Department of Transportation (DOT).

ACTION: Proposed rule; extension of comment period.

SUMMARY: The U.S. Department of Transportation is extending the comment period for its oral fluid notice of proposed rulemaking. The original comment period would close on March 30, 2022. The extension is granted in response to requests received from stakeholders, who have stated the March 30 closing date does not provide sufficient time for them to prepare and submit of comments to the docket. The Department agrees to extend the comment period by 30 days. Therefore, the closing date for submission of comments is extended to April 29, 2022, which will provide those entities submitting requests for an extension and others interested in commenting on the proposed rulemaking additional time to submit comments to the docket.

DATES: The comment period for the proposed rule published February 28, 2022, at 87 FR 11156, is extended. Comments must be received on or before April 29, 2022.

ADDRESSES: To ensure that you do not duplicate your docket submissions, please submit them by only one of the following means:

• Federal eRulemaking Portal: Go to https://www.regulations.gov/docket/DOT-OST-2021-0093/document and follow the online instructions for submitting comments.

• Mail: Docket Management Facility, U.S. Department of Transportation, 1200 New Jersey Ave. SE, West Building Ground Floor Room W12-140, Washington, DC 20590-0001.

• Hand delivery: West Building Ground Floor, Room W-12-140, 1200 New Jersey Ave. SE, between 9 a.m. and 5 p.m., Monday through Friday, except Federal holidays. The telephone number is 202-366-9329.

Instructions: To ensure proper docketing of your comment, please include the agency name and docket number DOT-OST-2021-0093 or the Regulatory Identification Number (RIN), 2105-AE94 for the rulemaking at the beginning of your comments. All comments received will be posted without change to http://www.regulations.gov, including any personal information provided.

FOR FURTHER INFORMATION CONTACT: Patrice M. Kelly, JD, Office of Drug and Alcohol Policy and Compliance, 1200 New Jersey Avenue SE, Washington, DC 20590; telephone number 202-366-3784; ODAPCwebmail@dot.gov.

SUPPLEMENTARY INFORMATION:

Background

On February 28, 2022, at 87 FR 11156, DOT published in the Federal Register a notice of proposed rulemaking proposing to amend its transportation industry drug testing program procedures regulations, 49 CFR part 40, to include oral fluid testing. The proposal includes other provisions to update the Department's regulation, and to harmonize, as needed, with the new Mandatory Guidelines for Federal Workplace Drug Testing Programs using Oral Fluid established by the U.S. Department of Health and Human Services. In addition to adding oral fluid as a drug testing method and harmonizing with pertinent OFMG sections, we also propose to clarify certain part 40 provisions that cover urine drug testing procedures; to remove provisions that no longer are necessary; to add clarifying language to other provisions such as updated definitions and web links, as appropriate; and to update provisions to reflect issues that have arisen in recent practice.

All members of the public, including DOT-regulated employers and employees, urine collectors, HHS-NLCP certified laboratories, Medical Review Officers, Substance Abuse Professionals, and Consortium/Third Party Administrations, Transportation trade organizations, and labor organizations are invited to submit comments.

The original comment period for the proposal would have closed March 30, 2022. However, DOT stakeholders have expressed concern that this closing date does not provide sufficient time to coordinate with their respective members to develop comments to the NPRM and/or to submit comments to the docket. To allow time for interested parties to submit comments, the closing date is changed from March 30, 2022 to April 29, 2022.

Signed in Washington, DC, on March 16, 2022.
Patrice M. Kelly,
Office of Drug and Alcohol Policy and Compliance.

[FR Doc. 2022-05972 Filed 3-21-22; 8:45 am]

BILLING CODE 4910-9X-P